DEPARTMENT OF EDUCATION

[Docket No.: ED-2021-SCC-0173]

Agency Information Collection Activities; Submission to the Office of Management and Budget for Review and Approval; Comment Request; Evaluating the DC Opportunity Scholarship Program After the 2017 Reauthorization

AGENCY: Institute of Educational Sciences, Department of Education (ED).

ACTION: Notice.

SUMMARY: In accordance with the Paperwork Reduction Act of 1995, ED is proposing a new information collection.

DATES: Interested persons are invited to submit comments on or before April 2, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Meredith Bachman, 202-245-7494.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluating the DC Opportunity Scholarship Program After the 2017 Reauthorization.

OMB Control Number: 1850-NEW.

Type of Review: A new information collection.

Respondents/Affected Public: Private Sector; State, Local, and Tribal Governments; Individuals and Households.

Total Estimated Number of Annual Responses: 842.

Total Estimated Number of Annual Burden Hours: 303.

Abstract: The U.S. Department of Education (ED)'s Institute of Education Sciences (IES) requests clearance for data collection activities to support a congressionally mandated study of the District of Columbia (DC) Opportunity Scholarship Program (OSP). Collecting information about the OSP is critical given ED's interest in private school choice as a way to improve students' educational outcomes and Congress's focus on the program. Proposed legislation supports both expanding the OSP to serve more students in DC and new tax credits that would make up to $5 billion available to fund similar programs nationwide. The importance of the OSP to Congress is reflected in its requirement that IES conduct a third evaluation of the program, following those completed in 2011 and 2019. The study will result in a report on the implementation of the OSP, including identification of challenges encountered by OSP-eligible applicants, participating schools, and the program operator; and potential program or policy changes to help address these challenges. A subsequent issue brief will focus on challenges related to families' ongoing participation in the OSP, since about 20% of students stop using scholarships after one year of participation. The study will also use the collected data to disseminate up to three issue policy briefs. This request covers administrative data as well as surveys of the OSP program operator, administrators of participating and non-participating OSP schools, OSP applicants, and OSP users. Also included is a request for classroom observations in OSP-participating schools.

Dated: February 25, 2021.
Stephanie Valentine,
PRA Coordinator, Strategic Collections and Clearance Governance and Strategy Division, Office of Chief Data Officer, Office of Planning, Evaluation and Policy Development.

[FR Doc. 2021-04306 Filed 3-2-21; 8:45 am]

BILLING CODE 4000-01-P